DEPARTMENT OF COMMERCE

International Trade Administration

[A-549-502]

Circular Welded Carbon Steel Pipes and Tubes From Thailand: Preliminary Results and Partial Rescission of Antidumping Duty Administrative Review; 2023-2024

AGENCY: Enforcement and Compliance, International Trade Administration, Department of Commerce.

SUMMARY: The U.S. Department of Commerce (Commerce) preliminarily finds that certain producers/exporters subject to this administrative review did not make sales of subject merchandise at less than normal value (NV) during the period of review (POR) March 1, 2023, through February 29, 2024. Additionally, Commerce is rescinding the review, in part, with respect to 28 companies. Interested parties are invited to comment on these preliminary results.

DATES: Applicable April 3, 2025.

FOR FURTHER INFORMATION CONTACT: Michael Romani, AD/CVD Operations, Office I, Enforcement and Compliance, International Trade Administration, U.S. Department of Commerce, 1401 Constitution Avenue NW, Washington, DC 20230; telephone: (202) 482-0198.

SUPPLEMENTARY INFORMATION:

Background

On March 11, 1986, Commerce published in the Federal Register the antidumping duty (AD) order on circular welded carbon steel pipes and tubes (CWP) from Thailand.¹ On March 1, 2024, we published in the Federal Register a notice of opportunity to request an administrative review of the Order for the POR.² On May 8, 2024, based on timely requests for an administrative review, Commerce initiated an administrative review of the Order.³ On July 3, 2024, Commerce selected Saha Thai Steel Pipe Public Co., Ltd. (Saha Thai) for individual examination as the sole mandatory respondent in this administrative review.⁴ On December 12, 2024, Commerce notified interested parties of our intent to rescind this administrative review with respect to the 28 companies that had no suspended entries during the POR.⁵

¹ See Antidumping Duty Order; Circular Welded Carbon Steel Pipes and Tubes from Thailand, 51 FR 8341 (March 11, 1986) (Order).

² See Antidumping or Countervailing Duty Order, Finding, or Suspended Investigation; Opportunity To Request Administrative Review and Join Annual Inquiry Service List, 89 FR 15157, 15159 (March 1, 2024).

³ See Initiation of Antidumping and Countervailing Duty Administrative Reviews, 89 FR 38867, 38870 (May 8, 2024).

⁴ See Memorandum, “Respondent Selection,” dated July 3, 2024.

⁵ See Memorandum, “Intent to Partially Rescind Review,” dated December 12, 2024 (Intent to Rescind Memorandum).

On July 22, 2024, Commerce tolled certain deadlines in this administrative proceeding by seven days.⁶ On November 25, 2024, Commerce extended the time limit for these preliminary results to February 28, 2025.⁷ Further, on December 9, 2024, Commerce tolled certain deadlines in this administrative proceeding by 90 days.⁸ The deadline for the preliminary results is now May 29, 2025. For a complete description of the events following the initiation of this administrative review, see the Preliminary Decision Memorandum.⁹

⁶ See Memorandum, “Tolling of Deadlines for Antidumping and Countervailing Duty Proceedings,” dated July 22, 2024.

⁷ See Memorandum, “Extension of Deadline for Preliminary Results of the Antidumping Duty Administrative Review,” dated November 25, 2024.

⁸ See Memorandum, “Tolling of Deadlines for Antidumping and Countervailing Duty Proceedings,” dated December 9, 2024.

⁹ See Memorandum, “Decision Memorandum for the Preliminary Results of the Administrative Review of the Antidumping Duty Order on Circular Welded Carbon Steel Pipes and Tubes from Thailand; 2023-2024,” dated concurrently with, and hereby adopted by, this notice (Preliminary Decision Memorandum).

A list of topics included in the Preliminary Decision Memorandum is included in the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Scope of the Order

The products covered by the Order are CWP from Thailand. For a complete description of the scope of this Order, see the Preliminary Decision Memorandum.

Rescission of Administrative Review, in Part

Pursuant to 19 CFR 351.213(d)(3), Commerce will rescind an administrative review, in whole or in part, when it concludes that there were no suspended entries of subject merchandise during the POR. Normally, upon completion of an administrative review, the suspended entries are liquidated at the AD assessment rate for the review period.¹⁰ Therefore, for an administrative review to be conducted, there must be a reviewable, suspended entry that Commerce can instruct U.S. Customs and Border Protection (CBP) to liquidate at the calculated AD assessment rate for the review period.¹¹ Based on our analysis of CBP information, we determined that 28 companies had no suspended entries of subject merchandise during the POR. On December 12, 2024, we notified the parties of our intent to rescind the administrative review with respect to the 28 companies listed in Appendix II that had no suspended entries of subject merchandise during the POR.¹² No party commented on our Intent to Rescind Memorandum. As a result, we are rescinding this review for the 28 companies listed in Appendix II of this notice.

¹⁰ See, e.g., Certain Carbon and Alloy Steel Cut-to Length Plate from the Federal Republic of Germany: Recission of Antidumping Administrative Review; 2020-2021, 88 FR 4154 (January 24, 2023).

¹¹ See, e.g., Shanghai Sunbeauty Trading Co., Ltd. v. United States, 380 F. Supp. 3d 1328, 1337 (CIT 2019) (referring to section 751(a) of the Act, the U.S. Court of International Trade held that “{w}hile the statute does not explicitly require that an entry be suspended as a prerequisite for establishing entitlement to a review, it does explicitly state the determined rate will be used as the liquidation rate for the reviewed entries. This result can only obtain if the liquidation of entries has been suspended”); see also Certain Frozen Fish Fillets from the Socialist Republic of Vietnam: Final Results of Antidumping Duty Administrative Review and Final Determination of No Shipments; 2018-2019, 86 FR 36102 (July 8, 2021), and accompanying Issues and Decision Memorandum at Comment 4; and Solid Fertilizer Grade Ammonium Nitrate from the Russian Federation: Notice of Rescission of Antidumping Duty Administrative Review, 77 FR 65532 (October 29, 2012) (noting that “for an administrative review to be conducted, there must be a reviewable, suspended entry to be liquidated at the newly calculated assessment rate”).

¹² See Intent to Rescind Memorandum.

Methodology

Commerce is conducting this review in accordance with section 751(a)(1)(B) of the Tariff Act of 1930, as amended (the Act). We calculated export price and NV in accordance with sections 772 and 773 of the Act, respectively. For a complete description of the methodology underlying our conclusions, see the Preliminary Decision Memorandum.

Rate for Non-Examined Company

The Act and Commerce's regulations do not address the establishment of a rate to be applied to companies not selected for individual examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted average of the estimated weighted average dumping margins established for exporters and producers individually investigated, excluding any zero or de minimis margins, and any margins determined entirely {on the basis of facts available}.”

In this review, we have preliminarily calculated a weighted-average dumping margin of zero percent for the sole mandatory respondent, Saha Thai. Consistent with the U.S. Court of Appeals for the Federal Circuit's decision in Albemarle,¹³ and Commerce's practice,¹⁴ we assigned the sole non-examined company under review, Thai Premium Pipe Co. Ltd. (TPP), a weighted-average dumping margin of zero percent, based on the rate calculated for Saha Thai, pursuant to section 735(c)(5)(B) of the Act.

¹³ See Albemarle Corp. v. United States, 821 F.3d 1345 (Fed. Cir. 2016) (Albemarle).

¹⁴ See Certain Cold-Rolled Steel Flat Products from the Republic of Korea: Preliminary Results of Antidumping Duty Administrative Review; 2020-2021,87 FR 60989 (October 7, 2022), unchanged in Certain Cold-Rolled Steel Flat Products from the Republic of Korea: Final Results of Antidumping Duty Administrative Review; 2020-2021, 88 FR 20218 (April 5, 2023).

Preliminary Results of Review

We preliminarily determine that the following estimated weighted-average dumping margins exist for the period March 1, 2023, through February 29, 2024:

Producer or exporter | Weighted- average dumping margin (percent)
Saha Thai Steel Pipe Public Co., Ltd. (also known as Saha Thai Steel Pipe (Public) Company, Ltd.) | 0.00
Thai Premium Pipe Co. Ltd | 0.00

Disclosure

We intend to disclose the calculations and analysis performed for these preliminary results to interested parties within five days of any public announcement or, if there is no public announcement, within five days of the date of publication of this notice in the Federal Register in accordance with 19 CFR 351.224(b).

Public Comment

Case briefs or other written comments may be submitted to the Assistant Secretary for Enforcement and Compliance. Pursuant to 19 CFR 351.309(c)(1)(ii), we have modified the deadline for interested parties to submit case briefs to Commerce to no later than 21 days after the date of the publication of this notice.¹⁵ Rebuttal briefs, limited to issues raised in the case briefs, may be filed not later than five days after the date for filing case briefs.¹⁶ Interested parties who submit case or rebuttal briefs in this administrative review must submit: (1) a table of contents listing each issue; and (2) a table of authorities.¹⁷

¹⁵ See 19 CFR 351.309.

¹⁶ See 19 CFR 351.309(d); see also Administrative Protective Order, Service, and Other Procedures in Antidumping and Countervailing Duty Proceedings, 88 FR 67069, 67077 (September 29, 2023) (APO and Final Service Rule).

¹⁷ See 19 CFR 351.309(c)(2) and (d)(2).

As provided to 19 CFR 351.309(c)(2) and (d)(2), in prior proceedings we have encouraged interested parties to provide an executive summary of their brief that should be limited to five pages total, including footnotes. In this administrative review, we instead request that interested parties provide at the beginning of their briefs a public, executive summary for each issue raised in their briefs.¹⁸ Further, we request that interested parties limit their executive summary of each issue to no more than 450 words, not including citations. We intend to use the public executive summaries as the basis of the comment summaries included in the issues and decision memorandum that will accompany the final results in this administrative review. We request that interested parties include footnotes for relevant citations in the public executive summary of each issue.

¹⁸ We use the term “issue” here to describe an argument that Commerce would normally address in a comment of the Issues and Decision Memorandum.

Pursuant to 19 CFR 351.310(c), interested parties who wish to request a hearing, limited to issues raised in case and rebuttal briefs, must submit a written request to the Assistant Secretary for Enforcement and Compliance via ACCESS within 30 days after the date of publication of this notice. Hearing requests should contain: (1) the party's name, address, and telephone number; (2) the number of participants and whether any participant is a foreign national; and (3) a list of issues to be discussed. Issues raised at the hearing will be limited to those raised in the case and rebuttal briefs. If a hearing request is made, parties will be notified of the date and time of the hearing.¹⁹ Parties should confirm the date and time of the hearing two days before the scheduled date.

¹⁹ See 19 CFR 351.310(d).

All submissions, including case and rebuttal briefs, as well as hearing requests, should be filed using ACCESS.²⁰ An electronically filed document must be received successfully in its entirety by ACCESS by 5:00 p.m. Eastern Time on the established deadline. Note that Commerce has amended certain of its requirements pertaining to the service of documents in 19 CFR 351.303(f).²¹

²⁰ See 19 CFR 351.303.

²¹ See APO and Final Service Rule.

Assessment Rates

Pursuant to section 751(a)(2)(A) of the Act, upon completion of the final results of this administrative review, Commerce shall determine and CBP shall assess, antidumping duties on all appropriate entries of subject merchandise covered by this review.²² If Saha Thai's weighted-average dumping margin is not zero or de minimis (i.e., less than 0.50 percent) in the final results of this review, we will calculate importer-specific ad valorem assessment rates on the basis of the ratio of the total amount of dumping calculated for each importer's examined sales and the total entered value of those same sales in accordance with 19 CFR 351.212(b)(1).²³ If the respondent's weighted-average dumping margin or an importer-specific assessment rate is zero or de minimis in the final results of review, we intend to instruct CBP to liquidate relevant entries without regards to antidumping duties.²⁴

²² See 19 CFR 351.212(b)(1).

²³ See Antidumping Proceedings: Calculation of the Weighted-Average Dumping Margin and Assessment Rate in Certain Antidumping Proceedings: Final Modification, 77 FR 8101, 8103 (February 14, 2012).

²⁴ Id., 77 FR at 8102; see also 19 CFR 351.106(c)(2).

In accordance with Commerce's “automatic assessment” practice, for entries of subject merchandise during the POR produced by Saha Thai for which it did not know that the merchandise was destined to the United States, we will instruct CBP to liquidate those entries at the all-others rate if there is no rate for the intermediate company(ies) involved in the transaction.²⁵

²⁵ For a full discussion of this practice, see Antidumping and Countervailing Duty Proceedings: Assessment of Antidumping Duties, 68 FR 23954 (May 6, 2003).

For TPP, which was not selected for individual review, we will instruct CBP to assess antidumping duties on all appropriate entries at a rate equal to the weighted-average dumping margin determined in the final results of this review, unless that rate is zero or de minimis, in which case we intend to instruct CBP to liquidate relevant entries without regards to antidumping duties. The final results of this review shall be the basis for the assessment of antidumping duties on entries of merchandise covered by the final results of this review and for future deposits of estimated duties, where applicable.²⁶

²⁶ See section 751(a)(2)(C) of the Act.

For the companies for which this review is rescinded with these preliminary results, we will instruct CBP to assess antidumping duties on all appropriate entries at a rate equal to the cash deposit of estimated antidumping duties required at the time of entry, or withdrawal from warehouse, for consumption, during the period March 1, 2023, through February 29, 2024, in accordance with 19 CFR 351.212(c)(l)(i). Commerce intends to issue assessment instructions to CBP for the rescinded companies no earlier than 35 days after the date of publication of this notice in the Federal Register.

The final results of this administrative review shall be the basis for the assessment of antidumping duties on entries of merchandise covered by the final results of this review and for future deposits of estimated duties, where applicable.²⁷

²⁷ See section 751(a)(2)(C) of the Act; and 19 CFR 351.212(b).

Commerce intends to issue assessment instructions to CBP no earlier than 35 days after the date of publication of the final results of this review in the Federal Register. If a timely summons is filed at the U.S. Court of International Trade, the assessment instructions will direct CBP not to liquidate relevant entries until the time for parties to file a request for a statutory injunction has expired, i.e., within 90 days of publication.

Cash Deposit Requirements

The following cash deposit requirements will be effective upon publication in the Federal Register of the notice of final results of administrative review for all shipments of CWP from Thailand entered, or withdrawn from warehouse, for consumption on or after the date of publication as provided for by section 751(a)(2)(C) of the Act: (1) the cash deposit rate for Saha Thai and TPP will be equal to the weighted-average dumping margin established in the final results of this review (except, if that rate is de minimis within the meaning of 19 CFR 351.106(c)(1), then the cash deposit rate will be zero); (2) for merchandise exported by a company not covered in this review but covered in a prior completed segment of the proceeding, the cash deposit rate will continue to be the company-specific rate published in the completed segment for the most recent period; (3) if the exporter is not a firm covered in this review or another completed segment of this proceeding, but the producer is, then the cash deposit rate will be the company-specific rate established for the completed segment for the most recent period for the producer of the merchandise; and (4) the cash deposit rate for all other producers or exporters will continue to be 15.67 percent, the all-others rate established in the less-than-fair-value investigation.²⁸ These cash deposit requirements, when imposed, shall remain in effect until further notice.

²⁸ See Order.

Notification to Importers

This notice serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Final Results of Review

Unless otherwise extended, Commerce intends to issue the final results of this administrative review, including the results of its analysis of the issues raised in any written briefs, not later than 120 days after the date of publication of this notice in the Federal Register, pursuant to section 751(a)(3)(A) of the Act and 19 CFR 351.213(h)(1).

Notification to Interested Parties

We are issuing and publishing these preliminary results in accordance with sections 751(a)(1) and 777(i) of the Act, and 19 CFR 351.213(h) and 351.221(b)(4).

Dated: March 27, 2025.
Christopher Abbott,
Deputy Assistant Secretary for Policy and Negotiations, performing the non-exclusive functions and duties of the Assistant Secretary for Enforcement and Compliance.

Appendix I

List of Topics Discussed in the Preliminary Decision Memorandum

I. Summary

II. Background

III. Scope of the Order

IV. Rate for Non-Examined Company

V. Rescission of Administrative Review, In Part

VI. Discussion of the Methodology

VII. Currency Conversion

VIII. Recommendation

Appendix II

Companies Rescinded From This Administrative Review

1. Apex International Logistics

2. Aquatec Maxcon Asia

3. Asian Unity Part Co., Ltd.

4. Better Steel Pipe Company Limited

5. Bis Pipe Fitting Industry Co., Ltd.

6. Blue Pipe Steel Center Co. Ltd.

7. Chuhatsu (Thailand) Co., Ltd.

8. CSE Technologies Co., Ltd.

9. Expeditors International (Bangkok)

10. Expeditors Ltd.

11. FS International (Thailand) Co., Ltd.

12. Kerry-Apex (Thailand) Co., Ltd.

13. K Line Logistics

14. Oil Steel Tube (Thailand) Co., Ltd.

15. Otto Ender Steel Structure Co., Ltd.

16. Pacific Pipe and Pump

17. Pacific Pipe Public Company Limited

18. Panalpina World Transport Ltd.

19. Polypipe Engineering Co., Ltd.

20. Schlumberger Overseas S.A.

21. Siam Fittings Co., Ltd.

22. Siam Steel Pipe Co., Ltd.

23. Sino Connections Logistics (Thailand) Co., Ltd.

24. Thai Malleable Iron and Steel

25. Thai Oil Group

26. Thai Oil Pipe Co., Ltd.

27. Vatana Phaisal Engineering Company

28. Visavakit Patana Corp., Ltd.

[FR Doc. 2025-05691 Filed 4-2-25; 8:45 am]

BILLING CODE 3510-DS-P